DEPARTMENT OF AGRICULTURE

Agricultural Marketing Service

7 CFR Part 59

[Docket No. AMS-LS-07-0106; LS-07-01]

RIN 0581-AC67

Livestock Mandatory Reporting; Reestablishment and Revision of the Reporting Regulation for Swine, Cattle, Lamb, and Boxed Beef

Correction

In proposed rule document 07-4405 appearing on page 51378 in the issue of Friday, September 7, 2007, make the following correction:

In the second column, in the fourth paragraph, in the seventh and eighth lines, “September 5, 2007” should read “September 24, 2007”.

[FR Doc. C7-4405 Filed 9-14-07; 8:45 am]

BILLING CODE 1505-01-D